COUNCIL ON ENVIRONMENTAL QUALITY

[CEQ-2022-0002]

Climate and Economic Justice Screening Tool Beta Version

AGENCY: Council on Environmental Quality.

ACTION: Notice of extension for request for information (RFI).

SUMMARY: On February 23, 2022, the Council on Environmental Quality published a request for information (RFI) to solicit feedback on the beta version of the Climate and Economic Justice Screening Tool. This notice extends the deadline date for receiving comments until May 25, 2022.

DATES: Responses to this RFI should be received by May 25, 2022.

ADDRESSES: You may submit comments, identified by docket number CEQ-2022-0002, by any of the following methods:

• Federal eRulemaking Portal: https://www.regulations.gov. Follow the instructions for submitting comments.

• Fax: 202-456-6546.

• Mail: Council on Environmental Quality, 730 Jackson Place NW, Washington, DC 20503.

All submissions received must include the agency name, “Council on Environmental Quality,” and the docket number, CEQ-2022-0002, for this RFI. All comments received will be posted without change to https://www.regulations.gov, including any personal information provided. Do not submit electronically any information you consider to be private, Confidential Business Information (CBI), or other information the disclosure of which is restricted by statute.

You may respond to some or all of the questions listed in the RFI. You may include references to academic literature or links to online material (such as datasets) but please ensure all links are publicly available. Each response should include:

• The name of the individual(s) or entity responding.

• A brief description of the responding individual(s) or entity's mission or areas of expertise.

• A contact for questions or other follow-up on your response.

FOR FURTHER INFORMATION CONTACT: Issues regarding submission or questions on this RFI can be sent to Sharmila L. Murthy at 202-395-5750 or Sharmila.L.Murthy@ceq.eop.gov.

SUPPLEMENTARY INFORMATION: On February 23, 2022, the Council on Environmental Quality published an RFI to solicit feedback on the beta version of the Climate and Economic Justice Screening Tool (CEJST) (87 FR 10176). The original deadline to submit responses was April 25, 2022. This notice extends the period for response by 30 days to provide the public with additional time to provide feedback on the beta version of the CEJST. CEQ is providing this additional time in response to public requests for an extension of the response period. Written responses should be submitted on or before May 25, 2022.

Matthew G. Lee-Ashley,
Chief of Staff.

[FR Doc. 2022-08774 Filed 4-22-22; 8:45 am]

BILLING CODE 3325-F2-P